DEPARTMENT OF JUSTICE

[OMB Number 1103-0102]

Agency Information Collection Activities; Proposed eCollection eComments Requested; Revision of a Previously Approved Collection; COPS Progress Report

AGENCY: Office of Community Oriented Policing Services (COPS), Department of Justice.

ACTION: 60-Day notice.

SUMMARY: The COPS, Department of Justice (DOJ), will be submitting the following information collection request to the Office of Management and Budget (OMB) for review and approval in accordance with the Paperwork Reduction Act of 1995.

DATES: Comments are encouraged and will be accepted for 60 days until February 2, 2026.

FOR FURTHER INFORMATION CONTACT: If you have additional comments, especially on the estimated public burden or associated response time, suggestions, or need a copy of the proposed information collection instrument with instructions or additional information, please contact Cory D. Randolph, Office of Community Oriented Policing Services, Two Constitution Square, 145 N Street NE, Washington, DC 20530.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: Information collection form for individuals applying for compensation under the Radiation Exposure Compensation Act.

Overview of This Information Collection

1. Type of Information Collection: Extension of a previously approved collection.

2. The Title of the Form/Collection: COPS Progress Report.

3. The agency form number, if any, and the applicable component of the Department sponsoring the collection: OMB #1105-0102 DOJ Component: COPS.

4. Affected public who will be asked or required to respond, as well as a brief abstract: [Affected Public: Primary: State, Local, and Tribal Governments].

5. Obligation to Respond: Mandatory.

6. Total Estimated Number of Respondents: Approximately 4,800.

7. Estimated Time per Respondent: 25 minutes.

8. Frequency: Four (Semi-Annually).

9. Total Estimated Annual Time Burden—600 hours.

10. Total Estimated Annual Other Costs Burden—estimated at $20 per hour × 600 hours = $12,000 [This is captured in #7 of the 60 day notice as well as item 13 of the Supporting Statement A].

If additional information is required contact: Darwin Arceo, Department Clearance Officer, United States Department of Justice, Justice Management Division, Enterprise Portfolio Management Two Constitution Square, 145 N Street NE, 4W-218, Washington, DC.

Dated: December 1, 2025.
Darwin Arceo,
Department Clearance Officer for PRA, U.S. Department of Justice.

[FR Doc. 2025-21814 Filed 12-2-25; 8:45 am]

BILLING CODE 4410-AT-P